DEPARTMENT OF TRANSPORTATION

Surface Transportation Board

[STB Finance Docket No. 34196]

Illinois Central Railroad Company—Trackage Rights Exemption-The City of New Orleans, LA

The City of New Orleans, LA (NO), pursuant to a written trackage rights agreement among Illinois Central Railroad Company (IC or Applicant), NO, and the New Orleans Public Belt Railroad Commission for the City of New Orleans, has agreed to grant nonexclusive overhead trackage rights to IC over NO's rail line-from a connection between NO's railroad and IC near Southport Junction interlocking to Union Passenger Terminal, including station tracks, via the Western Connection, the 2nd Main and the Outbound Main; from a connection between NO's railroad and IC at a point 580 feet north of the centerline of Dupre Street to Union Passenger Terminal via the Earhart Running Track and the Backup Main; and from North Wye Junction to South Wye Junction via the Wye Track-all in the City of New Orleans a distance of approximately 5.3 miles.

Applicant confirmed that the consummation of the transaction was anticipated to be on May 17, 2002, the effective date of the exemption (7 days after the exemption was filed ).¹

¹ Applicant initially indicated a proposed consummation date of May 14, 2002, but because applicant did not include the required filing fee, the applicable filing date was May 10, 2002, when the Board received the correct filing fee. Consummation could may not occur prior to May 17, 2002 (7 days after the May 10, 2002 filing date of the verified notice). IC's representative subsequently confirmed that consummation could not occur before May 17, 2002.

The purpose of the trackage rights is to grant IC the right to operate its freight trains, locomotives, cabooses and rail cars (including business cars) and roadway equipment over the line, and to grant IC the right to operate business cars into the Union Passenger Terminal in the City of New Orleans. The trackage rights agreement will replace a 1947 agreement granting operations in and around that terminal.

As a condition to this exemption, any employees affected by the trackage rights will be protected by the conditions imposed in Norfolk and Western Ry. Co.—Trackage Rights—dash;BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34196, must be filed with the Surface Transportation Board, Case Control Unit, 1925 K Street, NW., Washington, DC 20423-0001. In addition, a copy of each pleading must be served on Michael J. Barron, Jr., 455 North Cityfront Plaza Drive, Chicago, IL 60611-5317.

Board decisions and notices are available on our Web site at “www.stb.dot.gov.”

Decided: May 22, 2002.
By the Board, David M. Konschnik, Director, Office of Proceedings.
Vernon A. Williams,
Secretary.

[FR Doc. 02-13506 Filed 5-29-02; 8:45 am]

BILLING CODE 4915-00-P